DEPARTMENT OF COMMERCE

National Oceanic and Atmospheric

Administration National Sea Grant Advisory Board

AGENCY: National Oceanic and Atmospheric Administration, Department of Commerce.

ACTION: Notice of solicitation for nominations for the National Sea Grant Advisory Board and notice of public meeting.

SUMMARY: This notice responds to Section 209 of the Sea Grant Program Improvement Act of 1976 (Pub. L. 94-461, 33 U.S.C. 1128), which requires the Secretary of Commerce (Secretary) to solicit nominations at least once a year for membership on the National Sea Grant Advisory Board (Board), a Federal Advisory Committee that provides advice on the implementation of the National Sea Grant College Program (NSGCP) . To apply for membership to the Board, applicants should submit a current resume as indicated in the Contact Information section. A cover letter highlighting specific areas of expertise relevant to the purpose of the Board is helpful, but not required. NOAA is an equal opportunity employer.

This notice also sets forth the schedule and proposed agenda of a forthcoming meeting of the Board. Board members will discuss and provide advice on the NSGCP in the areas of program evaluation, strategic planning, education and extension, science and technology programs, and other matters as described in the agenda found on the National Sea Grant College Program Web site at http://seagrant.noaa.gov/WhoWeAre/Leadership/NationalSeaGrantAdvisoryBoard/UpcomingAdvisoryBoardMeetings.aspx.

DATES: Solicitation of nominations is open ended. Resumes may be sent to the address specified at any time.

The announced meeting is scheduled for Tuesday, November 3, 2015 from 8:30 a.m. to 5:00 p.m. HST and Wednesday, November 4, 2015, from 8:00 a.m. to 12:00 p.m. HST.

Individuals Selected for Federal Advisory Committee Membership: Upon selection and agreement to serve on the Board, you become a Special Government Employee (SGE) of the United States Government. According to 18 U.S.C. 202(a), an SGE is an officer or employee of an agency who is retained, designated, appointed, or employed to perform temporary duties, with or without compensation, not to exceed 130 days during any period of 365 consecutive days, either on a fulltime or intermittent basis. Please be aware that after the selection process is complete, applicants selected to serve on the Board must complete the following actions before they can be appointed as a Board member:

(a) Security clearance (on-line background security check process and fingerprinting), and other applicable forms, both conducted through NOAA Workforce Management; and (b) Confidential Financial Disclosure Report-As an SGE, you are required to file a Confidential Financial Disclosure Report annually to avoid involvement in a real or apparent conflict of interest. You may find the Confidential Financial Disclosure Report at the following Web site. http://www.oge.gov/Forms-Library/OGE-Form-4 50--Confidential-Financial-Disclosure-Report/.

Contact Information: Nominations will be accepted by email or mail. They should be sent to the attention of Mrs. Jennifer Hinden, National Sea Grant College Program, National Oceanic and Atmospheric Administration, 1315 East West Highway, SSMC 3, Room 11717, Silver Spring, Maryland 20910, or Jennifer.Hinden@noaa.gov. If you need additional assistance, call 301-734-1088.

For any additional questions concerning the meeting, please contact Mrs. Hinden using the contact information above.

ADDRESSES: The November meeting will be held at the Hilton Hotel located at 2005 Kalia Road, Honolulu, HI 96815.

Status: The meeting will be open to public participation with a 15-minute public comment period on Wednesday, November 4, 2015 at 8:45 a.m. HST. (check agenda on Web site to confirm time.)

The Board expects that public statements presented at its meetings will not be repetitive of previously submitted verbal or written statements. In general, each individual or group making a verbal presentation will be limited to a total time of three (3) minutes. Written comments should be received by Mrs. Jennifer Hinden by Friday, October 29, 2015 to provide sufficient time for the Board review. Written comments received after the deadline will be distributed to the Board, but may not be reviewed prior to the meeting date. Seats will be available on a first-come, first-serve basis.

Special Accomodations: These meetings are physically accessible to people with disabilities. Requests for sign language interpretation or other auxiliary aids should be directed to Mrs. Jennifer Hinden using the information under the Contact Information section by Wednesday, October 21, 2015.

SUPPLEMENTARY INFORMATION: Established by Section 209 of the Act and as amended the National Sea Grant College Program Amendments Act of 2008 (Pub. L. ll0-394), the duties of the Board are as follows:

(l) In general. The Board shall advise the Secretary and the National Sea Grant College Program Director (Director) concerning:

(A) Strategies for utilizing the Sea Grant College Program to address the Nation's highest priorities regarding the understanding, assessment, development, management, utilization, and conservation of ocean, coastal, and Great Lakes resources;

(B) The designation of Sea Grant Colleges and Sea Grant Institutes; and

(C) Such other matters as the Secretary refers to the Board for review and advice.

(2) Biennial Report. The Board shall report to the Congress every two years on the state of the National Sea Grant College Program. The Board shall indicate in each such report the progress made toward meeting the priorities identified in the strategic plan in effect under section 204(c). The Secretary shall make available to the Board such information, personnel, and administrative services and assistance as it may reasonably require to carry out its duties under this title.

The Board shall consist of 15 voting members who will be appointed by the Secretary for a 4-year term. The Director and a director of a Sea Grant program who is elected by the various directors of Sea Grant programs shall serve as nonvoting members of the Board. Not less than 8 of the voting members of the Board shall be individuals who, by reason of knowledge, experience, or training, are especially qualified in one or more of the disciplines and fields included in marine science. The other voting members shall be individuals who, by reason of knowledge, experience, or training, are especially qualified in, or representative of, education, marine affairs and resource management, coastal management, extension services, State government, industry, economics, planning, or any other activity which is appropriate to, and important for, any effort to enhance the understanding, assessment, development, management, utilization, or conservation of ocean, coastal, and Great Lakes resources. No individual is eligible to be a voting member of the Board if the individual is (A) the director of a Sea Grant College or Sea Grant Institute; (B) an applicant for, or beneficiary (as determined by the Secretary) of, any grant or contract under section 205 [33 uses § 1124]; or (C) a full-time officer or employee of the United States.

Dated: October 1, 2015.
Jason Donaldson.
Chief Financial Officer, Office of Oceanic and Atmospheric Research, National Oceanic and Atmospheric Administration.

National Sea Grant Advisory Board (NSGAB) Fall Meeting

November 3-4, 2015

AGENDA

Honolulu, HI

Tuesday, November 3, 2015

OPEN TO THE PUBLIC 8:30 a.m.-5:00 p.m. HST

8:30-8:45 Welcome, introduction of new members, review of agenda, approval of minutes (Rollie Schmitten, Chair NSGAB)

8:45-9:00 Chair's update (R. Schmitten, NSGAB)

9:00-10:30 National Sea Grant College Program, Director's Update (Nikola Garber, Acting Director, NSGCP)

10:30-11:00 Break

11:00-12:00 Sea Grant Association Update (Sylvain DeGuise, President, Sea Grant Association)

12:00-1:15 Break for Lunch

1:15-2:00 Set the stage for afternoon discussion & Reauthorization (N. Garber, NSGCP; R. Schmitten, NSGAB; S. DeGuise, SGA)

2:00-3:00 Sea Grant Visioning & Sea Grant Roadmap (N. Garber, NSGCP; R. Schmitten, NSGAB; S. DeGuise, SGA)

3:00-3:30 Break

3:30-4:00 Program Implementation & Evaluation (PIE) (N. Garber, NSCGP)

4:00-4:30 Strategic Planning 2018-2021 (N. Garber, NSGCP)

4:30-4:45 National Ocean Sciences Bowl Discussion (R. Fortner, NSGAB)

4:45-5:00 Discussion of days topics and wrap-up (R. Schmitten, NSGAB)

5:00 Public Meeting recessed until 8:30 a.m. Wednesday, November 4, 2015

5:00-6:00 Advisory Board Business Meeting (Board Only)

Wednesday, November 4, 2015

OPEN TO THE PUBLIC 8:00 am-12:00 p.m. HST

8:00-8:45 Call to Order and follow up from previous days meeting

8:45-9:00 Public Comment Period

9:00-10:00 Charge to the Board—Review of the Sea Grant Extension—NOAA Liaison positions (D. Baker, NSGAB)

10:00-10:30 Break

10:30-11:15 Globalization of the Sea Grant Model (R. Vortmann, NSGAB)

11:15-11:45 Member Updates

11:45-12:00 Discussion of meeting topics and wrap-up (R. Schmitten, NSGAB)

12:00 Meeting Adjourned

[FR Doc. 2015-25681 Filed 10-9-15; 8:45 am]

BILLING CODE 3510-KA-P